DEPARTMENT OF AGRICULTURE

Rural Housing Service

Farm Service Agency

Notice of Request for Extension of a Currently Approved Information Collection

AGENCIES: Rural Housing Service, Farm Service Agency, USDA.

ACTION: Notice and request for comments.

SUMMARY: In accordance with the Paperwork Reduction Act of 1995, this notice announces the subject agencies' intention to request an extension for a currently approved information collection in support of the programs for 7 CFR Part 1806, subpart A, “Real Property Insurance.” This renewal does not involve any revisions to the program regulations.

DATES: Comments on this notice must be received on or before July 12, 2004 to be assured of consideration.

FOR FURTHER INFORMATION CONTACT: Cathy Quayle, Senior Loan Officer, USDA, FSA, Farm Loan Programs, Loan Making Division, 1400 Independence Avenue, SW., Stop 0522, Washington, DC 20250-0522, telephone (202) 690-4018. Electronic mail: CQuayle@wdc.usda.gov.

SUPPLEMENTARY INFORMATION: Title: 7 CFR, Part 1806-A—Real Property Insurance.

OMB Number: 0575-0087.

Expiration Date of Approval: November 30, 2004.

Type of Request: Extension of a currently approved information collection.

Abstract: This regulation governs the servicing of property insurance on buildings and land securing the interest of the Farm Service Agency (FSA) in connection with an FSA Farm Loan Program Loan and the Multi-Family Housing Program of the Rural Housing Service (RHS). The information collections pertain primarily to the verification of insurance on property securing Agency loans. This information collection is submitted by FSA or RHS borrowers to Agency offices. It is necessary to protect the government from losses due to weather, natural disasters, or fire and ensure that loan applicants meet hazard insurance requirements:

Estimate of Respondent Burden: Public reporting for this collection of information is estimated to average 30 minutes per response.

Respondents: Individuals or households, businesses or other for profit organizations and farms.

Estimated Number of Respondents: 4,550.

Estimated Number of Responses per Respondent: 1.

Estimated Total Annual Burden on Respondents: 2,275.

Copies of this information collection can be obtained from: Renita Bolden, Regulations and Paperwork Management Branch, Support Services Division at (202) 692-0035.

Comments: Comments are invited on: (a) Whether the proposed collection of information is necessary for the proper performance of the functions of subject agencies, including whether the information will have practical utility; (b) the accuracy of agencies estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Renita Bolden, Regulations and Paperwork Management Branch, Support Services Division, U.S. Department of Agriculture, Rural Development, STOP 0742, 1400 Independence Avenue, SW., Washington, DC 20250. All responses to this notice will be summarized and included in the request for OMB approval. All comments will also become a matter of public record.

Dated: May 6, 2004.
Arthur A. Garcia,
Administrator, Rural Housing Service.

Dated: April 30, 2004.
James R. Little,
Administrator, Farm Service Agency.

[FR Doc. 04-10714 Filed 5-11-04; 8:45 am]

BILLING CODE 3410-XV-P